NATIONAL COUNCIL ON DISABILITY

Establishment of Advisory Committee

AGENCY: National Council on Disability (NCD).

SUMMARY: This notice announces the establishment of NCD's Youth Advisory Committee.

FOR INFORMATION CONTACT: Mark S. Quigley, Public Affairs Specialist, National Council on Disability, 1331 F Street NW, Suite 1050, Washington, DC 20004-1107; 202-272-2004 (voice), 202-272-2074 (TTY), 202-272-2022 (fax), mquigley@ncd.gov (e-mail).

Agency Mission

The National Council on Disability is an independent federal agency composed of 15 members appointed by the President of the United States and confirmed by the U.S. Senate. Its overall purpose is to promote policies, programs, practices, and procedures that guarantee equal opportunity for all people with disabilities, regardless of the nature of severity of the disability; and to empower people with disabilities to achieve economic self-sufficiency, independent living, and inclusion and integration into all aspects of society.

Youth Advisory Committee

The purpose of NCD's Youth Advisory Committee is to provide input into NCD activities consistent with the values and goals of the Americans with Disabilities Act.

This committee is necessary to provide advice and recommendations to NCD on disability issues.

We are seeking a balanced, culturally diverse membership representing a variety of disabling conditions and from across the United States. One member will be chosen from each of the 10 federal regions.

Region I states include Connecticut, Maine, Massachusetts, New Hampshire, Rhode Island, and Vermont.

Region II states include New Jersey, New York, Puerto Rico, and the Virgin Islands.

Region III states include Delaware, District of Columbia, Maryland, Pennsylvania, Virginia, and West Virginia.

Region IV states include Alabama, Florida, Georgia, Kentucky, Mississippi, North Carolina, South Carolina, and Tennessee.

Region V states include Illinois, Indiana, Michigan, Minnesota, Ohio, and Wisconsin.

Region VI states include Arkansas, Louisiana, New Mexico, Oklahoma, and Texas.

Region VII states include Iowa, Kansas, Missouri, and Nebraska.

Region VIII states include Colorado, Montana, North Dakota, South Dakota, Utah, and Wyoming.

Region IX states include Arizona, California, Guam, Hawaii, and Nevada.

Region X states include Alaska, Idaho, Oregon, and Washington.

Signed in Washington, DC, on February 2, 2000.
Ethel D. Briggs,
Executive Director.

[FR Doc. 00-3073 Filed 2-9-00; 8:45 am]

BILLING CODE 6820-MA-M